DEPARTMENT OF TRANSPORTATION

National Highway Traffic Safety Administration

49 CFR Part 571

[Docket No. NHTSA 03-15097; Notice 1]

Federal Motor Vehicle Safety Standards; Occupant Crash Protection

AGENCY: National Highway Traffic Safety Administration (NHTSA), Department of Transportation.

ACTION: Denial of petition.

SUMMARY: This notice denies a petition for rulemaking from DaimlerChrysler Corporation requesting that the agency amend Federal Motor Vehicle Safety Standard (FMVSS) No. 208, “Occupant crash protection,” to allow for the deactivation of passenger air bags through the use of certain features of the child restraint lower anchorages described in FMVSS No. 225, “Child restraint anchorage systems.” This was proposed both in lieu of, and in addition to, a manual passenger air bag on-off switch. The agency has analyzed the main issues surrounding the petitioner's request in the context of current and future air bag requirements. This notice completes agency rulemaking on that petition.

FOR FURTHER INFORMATION CONTACT: For non-legal issues, you may contact Lori Summers, Office of Crashworthiness Standards. Telephone: (202) 366-4917, Facsimile: (202) 493-2739.

For legal issues, you may contact Rebecca MacPherson, Office of the Chief Counsel. Telephone: (202) 366-2992, Facsimile: (202) 366-3820.

SUPPLEMENTARY INFORMATION:

I. Background

In 1995, vehicle manufacturers were beginning to install, and would soon be required to install, right front passenger air bags in all passenger cars and light trucks. At that time, the National Highway Traffic Safety Administration (NHTSA) believed that placing a rear facing child safety system (RFCSS) in the front seat of passenger air bag-equipped vehicles would have the potential for producing harmful effects. The agency's laboratory tests had shown that when RFCSSs were placed in the front seat of a passenger air bag-equipped vehicle, they extended forward to a point near the instrument panel where they could be struck by a deploying air bag and have the potential to cause serious injury to infants. This possibility was particularly acute when caregivers had no other choice because the rear seats of the vehicle were too small to accommodate the RFCSS or because the vehicle was not equipped with a rear seat.

As a countermeasure to this potential safety problem, the agency amended FMVSS No. 208, “Occupant crash protection,” on May 23, 1995 (60 FR 27333) to allow manufacturers the option of installing an on-off switch that motorists could use to deactivate the front passenger-side air bag in vehicles that have no rear seat or a rear seat too small to accommodate a RFCSS. A yellow telltale light was also required to indicate when the passenger air bag was deactivated. On January 6, 1997, the agency published a Final Rule (62 FR 798) extending the allowance for on-off switches until September 1, 2000, and this was further extended to September 1, 2012 in the May 12, 2000 Final Rule regarding advanced air bag requirements (65 FR 30680).

In addition to the manual on-off switch extension, the FMVSS No. 208 Final Rule regarding advanced air bags added requirements for minimizing air bag risk to infants in RFCSS and car beds, and children in forward-facing child safety seats. The requirements allow manufacturers to meet one of two options: Option 1—Automatic Suppression Feature, or Option 2—Low Risk Deployment .¹ Advanced air bag systems designed to meet the requirements are expected to work automatically. Once installed, the device should require no action on the part of the occupant. For example, if an automatic suppression system recognizes the presence of a RFCSS in the right front passenger seat, the air bag should automatically not deploy. We note that vehicle manufacturers are not restricted in their choice of technology. Unlike the earlier on-off switch requirements, there are no restrictions limiting installation of suppression systems to vehicles that have no rear seat or have rear seats that are too small to accommodate a RFCSS.

¹ Note: Manufacturers are required to pick a certification option for each of the three child occupant categories: 12-month-old infant, 3-year-old and 6-year-old child. The 3-year-old and 6-year-old child categories also have a third option for dynamic automatic suppression.

Currently FMVSS No. 225, “Child restraint anchorage systems,” mandates that if a vehicle does not have an air bag on-off switch meeting the requirements of S4.5.4 of FMVSS No. 208, it shall not have a child restraint anchorage system installed at a front designated seating position. The on-off switch requirements in S4.5.4 of FMVSS No. 208 specify, among other things, that the on-off device be operable by means of the ignition key for the vehicle.

II. DaimlerChrysler's Petition

On November 16, 1999, DaimlerChrysler Corporation (DaimlerChrysler) petitioned NHTSA to amend FMVSS No. 208, to allow for the deactivation of passenger air bags through the use of certain features of the child restraint lower anchorages described in FMVSS No. 225. DaimlerChrysler believes the attachment should be permitted as a substitute for, or in addition to, a manual on-off switch.

DaimlerChrysler stated they were considering the development of a system that would sense the presence of a RFCSS held in place with components (identified in FMVSS No. 213, “Child restraint systems”) for attaching to the child restraint lower anchorages described in FMVSS No. 225. In addition to sensing RFCSSs, the system would also deactivate the passenger air bag when forward facing child safety systems equipped with similar components are installed in the front seat. According to DaimlerChrysler, air bag deactivation would be accomplished and assured by the act of installing the child safety system attachment components onto the anchorages described in FMVSS No. 225. The attachment components would be detected by a switch actuator that is integral with the lower anchorages. The telltale light of S4.5.4.3 of FMVSS No. 208 would still be required, and would be illuminated whenever the passenger air bag is turned off by means of the proposed system.

III. Analysis of Petition

Both of the proposed amendments included in DaimlerChrysler's petition for rulemaking are being denied. First, DaimlerChrysler petitioned that FMVSS No. 208 be amended to allow the child restraint anchorage system attachment be permitted as a means of turning off the right front passenger air bag in lieu of a manual air bag on-off switch. However, NHTSA believes that the child restraint anchorage system technology proposed by DaimlerChrysler would limit the target population of children that may benefit from a manual air bag on-off switch. Using this technology, children not in child seats, or in child seats without appropriate child seat anchorage hardware, will not be able to have their air bag manually turned off, in vehicles with no rear seat or a rear seat too small to accommodate a RFCSS. Currently, air bag on-off switches have the potential for suppressing the passenger air bag for all children (whether they are using a child restraint anchorage system or not).

DaimlerChrysler commented on the tragic circumstances that can occur when a caregiver neglects to manually turn “off” the right front passenger air bag. NHTSA has studied how manual passenger air bag on-off switches are being used and misused in the field and is developing new strategies on how to improve information and educational efforts regarding on-off switch use in current vehicles. For new vehicles, certified with advanced air bag technology in conjunction with an on-off switch, the on-off switch is largely a system redundancy for children. These vehicles will be able to provide the option for caregivers to manually turn off the passenger air bag in the presence of children, or, alternatively, allow the system to work in an automatic mode. The “automatic” mode would be required to minimize the risk of air bags to all children either through air bag suppression or providing a low risk deployment (depending upon a vehicle's certification methods), while maintaining moderate to high speed crash protection for adult occupants.

Adopting DaimlerChrysler's petition could also lead to conditioning caregivers into assuming that once a child seat is connected to the child restraint anchorage system in the right front passenger seat, no further action is necessary on their part to suppress passenger air bag deployment in vehicles that are not equipped with advanced air bags. For example, if that other vehicle has child restraint lower anchorages and a manual air bag on-off switch for the right front passenger seat, the caregiver may not know that the air bag will not be suppressed unless they use the manual, key-operated on-off switch.

DaimlerChrysler's petition acknowledged the argument that their system could encourage the placement of toddlers in child restraint systems equipped with FMVSS No. 225 lower anchorage attachments in the front rather than appropriate rear seating positions. However, they dismissed its significance by stating they believe the toddler has the advantage of the improved child restraint system. However, as previously discussed, this improved child restraint system would only apply to children in child seats equipped with lower anchorage attachments, not other children. Additionally, this system could be susceptible to mis-use if the lower anchorages are only partially engaged. DaimlerChrysler's petition did not address risks associated with partial engagement.

More recently, DaimlerChrysler demonstrated a new stowable/foldable lower anchorage deactivation system that is also applicable to this petition.² In this design, the lower anchorages, and air bag deactivation feature, would only be accessible for child restraint attachment when the vehicle seat was placed in a certain seat track position. For example, the vehicle manufacturer could designate the most rearward seat track position to be the sole location where the stowable/foldable lower anchorages are made available. However, NHTSA believes that this technology, like the non-stowable/foldable type previously discussed, would not be applicable to the same target population as an on-off switch. Furthermore, even for the sub-population of children in child seats with lower anchorage hardware, we believe the stowable/foldable lower anchorage deactivation system provides little advantage over a switch since it still requires two actions by the caregiver. First, it requires activation of a switch to position the vehicle seat and make the anchorages accessible, followed by a second action of attaching the child restraint system to the lower anchorage. In addition, the stowable/foldable lower anchorage deactivation system has the potential of being defeated if the single seat track position, which provides the lower anchorages, is obstructed from use (i.e., due to cargo in the rear).

² Exparte meeting with DaimlerChrysler, NHTSA-03-15097.

DaimlerChrysler alternatively proposed that NHTSA could consider their child restraint anchorage technology in conjunction with an air bag on-off switch system. NHTSA notes that FMVSS No. 208 does not prohibit the use of such technologies. While this technology alone will not be enough for certification with the advanced air bag requirements, it can be used to supplement the technologies that will be used for certification. For the interim fleet of vehicles that are being produced between now and the completion of the advanced air bag phase-in, NHTSA has never prohibited such systems. Furthermore, DaimlerChrysler's petition is very technology-specific to the child restraint lower anchorages, and would not encompass the broad range of other advanced technologies that could likely demonstrate the same air bag suppression capabilities and seek the same interim classification as an on-off switch. Therefore, NHTSA is denying DaimlerChrysler's petition for a rulemaking proceeding addressing vehicles produced in the interim.

IV. Conclusion

NHTSA's educational campaigns have strongly encouraged caregivers to place children in the rear seat of vehicles, and FMVSS No. 225 currently prohibits the installation of child restraint anchorage systems in the front seat of vehicles unless an on-off switch is present. NHTSA believes that the child restraint anchorage system technology proposed by DaimlerChrysler would limit the target population of children that may benefit from a manual air bag on-off switch. Using this technology, children not in child seats, or in child seats without appropriate child seat anchorage hardware, will not be able to have their air bag manually turned off, in vehicles with no rear seat or a rear seat too small to accommodate a RFCSS. Consequently, NHTSA is denying this petition for rulemaking. We are also denying DaimlerChrysler's alternative proposal to consider their child restraint anchorage technology in conjunction with an air bag on-off switch system since FMVSS No. 208 does not prohibit the use of such technologies.

In accordance with 49 CFR Part 552, this completes the agency's review of the petition for rulemaking. The agency has concluded that there is no reasonable possibility that the amendments requested by the petitioner would be issued at the conclusion of the rulemaking proceeding. Accordingly, rulemaking on the petition is completed.

Authority: 49 U.S.C. 30103, 30162; delegation of authority at 49 CFR 1.50 and 501.8

Issued on: August 13, 2003.
Stephen R. Kratzke,
Associate Administrator for Rulemaking.

[FR Doc. 03-21218 Filed 8-18-03; 8:45 am]

BILLING CODE 4910-59-P